SECURITIES AND EXCHANGE COMMISSION

[File No. 500-1]

In the Matter of Recycle Tech, Inc.; Order of Suspension of Trading

May 2, 2012.

It appears to the Securities and Exchange Commission that there is a lack of current and accurate information concerning the securities of Recycle Tech, Inc. (“Recycle Tech”) because it has not filed a periodic report since its 10-Q for the quarterly period ending November 30, 2009, filed on January 13, 2010.

The Commission is of the opinion that the public interest and the protection of investors require a suspension of trading in the securities of Recycle Tech. Therefore, it is ordered, pursuant to Section 12(k) of the Securities Exchange Act of 1934, that trading in the securities of Recycle Tech is suspended for the period from 9:30 a.m. EDT on May 2, 2012, through 11:59 p.m. EDT on May 15, 2012.

By the Commission.
Jill M. Peterson,
Assistant Secretary.

[FR Doc. 2012-10916 Filed 5-2-12; 4:15 pm]

BILLING CODE 8011-01-P